DEPARTMENT OF HOMELAND SECURITY

Coast Guard

33 CFR Part 165

[Docket No. USCG-2011-0318]

RIN 1625-AA87

Security Zone; Escorted Vessels in Captain of the Port Ohio Valley Zone

AGENCY: Coast Guard, DHS.

ACTION: Notice of public meeting; request for comments.

SUMMARY: The Coast Guard announces a public meeting to receive comments on a notice of proposed rulemaking entitled “Security Zone; Escorted Vessels in Captain of the Port Ohio Valley Zone” that was published in the Federal Register on July 27, 2011. As stated in that document, the Coast Guard proposes to implement fixed and moving security zones around High Capacity Passenger Vessels (HCPVs) and vessels carrying Certain Dangerous Cargo (CDC) while they are being escorted in the navigable waters of the Captain of the Port (COTP), Sector Ohio Valley Zone. The proposed security zones would control the movement of vessels within 50-yards of a HCPV or vessel carrying a CDC. These security zones would mitigate potential terrorist acts and would enhance public and maritime safety and security.

DATES: A public meeting will be held on Wednesday, February 29, 2012 from 1 p.m. to 4 p.m. to provide an opportunity for oral comments. Written comments and related material may also be submitted to Coast Guard personnel specified at that meeting. The comment period for the proposed rule closed on August 26, 2011. A second comment period will be open for 15 days following the public meeting. All comments and related material submitted after the meeting must be received by the Coast Guard on or before Thursday, March 15, 2012.

ADDRESSES: The public meeting will be held at The Brown Hotel, 335 West Broadway, Louisville, KY 40202, telephone 502-583-1234.

You may submit written comments at the public meeting or during the comment period following the public meeting. Written comments submitted after the public meeting must be identified by docket number USCG-2011-0318 and may be submitted using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2011-0318.

FOR FURTHER INFORMATION CONTACT: If you have questions concerning the meeting or the proposed rule, please call or email LCDR Derek Schade, Sector Ohio Valley Response Department, Coast Guard; telephone 502-779-5413, email derek.t.schade@uscg.mil. If you have questions on viewing or submitting material to the docket, call Renee V. Wright, Program Manager, Docket Operations, telephone 202-366-9826.

SUPPLEMENTARY INFORMATION:

Background and Purpose

We published a notice of proposed rulemaking (NPRM) in the Federal Register on July 27, 2011, (76 FR 44880), entitled “Security Zone; Escorted Vessels in Captain of the Port Ohio Valley Zone”. In it we stated that we did not plan to hold a public meeting, but that we welcomed requests explaining why one would be beneficial. 76 FR 44881. We received several requests from vessel owners and operators to have a more “substantive discussion” in order to address some of their specific concerns and have concluded that a public meeting would aid this rulemaking. Therefore, we are publishing this notice.

In the NPRM, we propose to establish a 50-yard security zone around High Capacity Passenger Vessels (HCPVs) and vessels carrying Certain Dangerous Cargo (CDC) while they are being escorted in the Captain of the Port Ohio Valley zone, as defined in 33 CFR 3.40-65. In the proposed rule, HCPVs are defined as any commercial vessel carrying 500 or more passengers and CDC means the same as its definition in 33 CFR part 160. This rule would establish security zones that control the movement of persons and other vessels from the surface to the bottom of the water in a 50-yard radius around escorted vessels. Vessels traveling within 50 yards of these escorted vessels would be required to slow to the minimum speed necessary to navigate safely. All vessels or persons would be prohibited from entering within a 25-yard radius around these escorted vessels without the permission from the COTP Sector Ohio Valley or his or her designated representative.

For the purposes of this rule, a designated representative of the COTP Ohio Valley includes commissioned, warrant, or petty officers of the U.S. Coast Guard; or Federal, State, and local law enforcement officers designated by or assisting the COTP Ohio Valley. In the proposed rule, an escorted vessel is defined as a HCPV or vessel carrying CDC that is accompanied by one or more Coast Guard assets or other Federal, State, or local law enforcement assets clearly identified by lights, vessel markings, or with agency insignia. In all cases, the COTP would notify the maritime and general public by marine information broadcast of the periods during which individual security zones will be enforced.

You may view the NPRM in our online docket, in addition to supporting documents prepared by the Coast Guard, including a preliminary environmental checklist and Categorical Exclusion Determination (CED), and comments submitted thus far by going to http://www.regulations.gov. Once there, insert “USCG-2011-0318” in the “Keyword” box and click “Search.” You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

We encourage you to participate in this rulemaking by submitting comments either orally at the meeting or in writing following the meeting. If you bring written comments to the meeting, you may submit them to Coast Guard personnel specified at the meeting to receive written comments. These comments will be submitted to our online public docket. All comments received will be posted without change to http://www.regulations.gov and will include any personal information you have provided.

Comments submitted after the meeting must reach the Coast Guard on or before Thursday, March 15, 2012. If you submit a comment online via http://www.regulations.gov, it will be considered received by the Coast Guard when you successfully transmit the comment. If you fax, hand delivery, or mail your comment, it will be considered as having been received by the Coast Guard when it is received at the Docket Management Facility.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact LCDR Derek Schade, Sector Ohio Valley Response Department, Coast Guard at the telephone number or email address indicated under the FOR FURTHER INFORMATION CONTACT section of this notice.

Public Meeting

The Coast Guard will hold a public meeting regarding its Security Zone; Escorted Vessels in Captain of the Port Ohio Valley Zone proposed rule on Wednesday, February 29, 2012 from 1 p.m. to 4 p.m., at The Brown Hotel, 335 West Broadway, Louisville, KY 40202, telephone (502) 583-1234. Government-issued, photo ID or other item will not be required to attend the meeting. Street parking is limited during business hours. Parking garages and surface lots are available near the meeting location but charge hourly rates. Public transportation to the building is available. For additional information regarding public transportation, contact the Transit Authority of River City at http://www.ridetarc.org/.

We plan to record this meeting using an audio-digital recorder and then make that audio recording available through a link in our online docket. We will also provide a written summary of the meeting and comments and will place that summary in the docket.

Dated: January 9, 2012.
L.W. Hewett,
Captain, U.S. Coast Guard, Captain of the Port Ohio Valley.

[FR Doc. 2012-2122 Filed 1-31-12; 8:45 am]

BILLING CODE 9110-04-P